DEPARTMENT OF HEALTH AND HUMAN SERVICES

Centers for Medicare & Medicaid Services

42 CFR Parts 405, 417, 422, 423, 460, and 498

[CMS-4182-CN]

RIN 0938-AT08

Medicare Program Contract Year 2019 Policy and Technical Changes to the Medicare Advantage, Medicare Cost Plan, Medicare Fee-For-Service, the Medicare Prescription Drug Benefit Programs, and the PACE Program; Correction

AGENCY: Centers for Medicare & Medicaid Services (CMS), HHS.

ACTION: Proposed rule; correction.

SUMMARY: This document corrects technical and typographical errors in the proposed rule that appeared in the November 28, 2017 issue of the Federal Register titled “Medicare Program Contract Year 2019 Policy and Technical Changes to the Medicare Advantage, Medicare Cost Plan, Medicare Fee-For-Service, the Medicare Prescription Drug Benefit Programs, and the PACE Program”.

FOR FURTHER INFORMATION CONTACT: Marie Manteuffel, (410) 786-3447. Lucia Patrone, (410) 786-8621.

SUPPLEMENTARY INFORMATION:

I. Background

In FR Doc. 2017-25068 of November 28, 2017 (82 FR 56336), there were a number of technical and typographical errors that are identified and corrected in the Correction of Errors section of this correcting document.

II. Summary of Errors

A. Summary of Errors in the Preamble

On page 56366, in the listing of parts of the Code of Federal Regulations (CFR) that are being revised by the proposed rule, we inadvertently omitted 42 CFR part 460.

On page 56488, in our discussion of reducing the burden of the medical loss ratio (MLR) reporting requirements, we made errors in our description of the tasks performed by our contractor during the initial analyses or desk reviews of MLR reports and the entities for which they perform these tasks (that is, MA organizations and Part D sponsors, not just MA organizations).

B. Summary of Errors in the Regulations Text

On pages 56498 and 56516, in the proposed regulations text for the calculation of the Part D improvement scores (§§ 422.164(f)(4)(vi) and 423.184(f)(4)(vi), respectively), we made errors in referencing the proposed provision for the clustering algorithm.

On page 56509, in the regulations text changes for § 423.120(b)(5)(i)(A) and (B), we made technical errors in the timeframes regarding notice of formulary changes and supply of the Part D drug.

On page 56510, we inadvertently omitted regulations text changes for § 423.128(a)(3) that we discussed in section II.B.4. of the proposed rule (see 82 FR 56432). These proposed changes would require MA plans and Part D Sponsors to provide the information in § 423.128(b) by the first day of the annual enrollment period.

III. Correction of Errors

In FR Doc. 2017-25068 of November 28, 2017 (82 FR 56336), we are making the following corrections:

A. Corrections of Errors in the Preamble

1. On page 56366, first column, line 6 (part heading), the phrase “423, and” is corrected to read “423, 460, and”.

2. On page 56488, first column, third full paragraph, the paragraph that begins with the phrase “Our proposal to significantly reduce the amount” and ends with the phrase “in order to resolve potential compliance issues.” is corrected to read as follows:

“Our proposal to significantly reduce the amount of MLR data submitted to CMS would eliminate the need for CMS to continue to pay a contractor approximately $390,000 a year to perform initial analyses or desk reviews of the detailed MLR reports submitted by MA organizations and Part D sponsors. These initial analyses or desk reviews are done by our contractors in order to identify omissions and suspected inaccuracies and to communicate their findings to MA organizations and Part D sponsors in order to resolve potential compliance issues.”

B. Correction of Errors in the Regulations Text

§ 422.164 [Corrected]

1. On page 56498, third column, in § 422.164(f)(4)(vi), lines 4 through 6, the reference “§§ 422.166(a)(2)(ii) through (iv) and 423.186(a)(2)(ii) through (iv)” is corrected to read, “§§ 422.166(a)(2)(iii) and 423.186(a)(2)(iii)”.

§ 423.120 [Corrected]

2. On page 56509, first column—

a. Sixth paragraph, amendatory instruction 62e is corrected to read “e. In paragraph (b)(5)(i)(A), by removing the phrase “60 days” and adding in its place the phrase “30 days”;”.

b. Eighth paragraph, amendatory instruction 62f is corrected to read “f. In paragraph (b)(5)(i)(B), by removing the phrase “60 day supply” and adding in its place the phrase “month's supply”;”.

§ 423.128 [Corrected]

3. On page 56510, second column—

a. Third full paragraph, amendatory instruction 63 is corrected to read “63. Section 423.128 is amended by revising paragraphs (a)(3) and (d)(2)(iii) to reads as follows:”.

b. Following the third full paragraph, § 423.128, the text is corrected by adding the following text after the section heading and before line 1 (5 stars) to read as follows:

” (a) * * *

(3) At the time of enrollment and at least annually thereafter, by the first day of the annual coordinated election period.”

§ 423.184 [Corrected]

4. On page 56516, third column, in § 423.184(f)(4)(vi), line 4, the reference “§ 423.186(a)(2)(ii)” is corrected to read “§ 423.186(a)(2)(iii)”.

Dated: December 19, 2017.
Ann C. Agnew,
Executive Secretary to the Department, Department of Health and Human Services.

[FR Doc. 2017-27943 Filed 12-27-17; 8:45 am]

BILLING CODE 4120-01-P